ENVIRONMENTAL PROTECTION AGENCY

[EPA-HQ-OECA-2006-0751; FRL-8299-3]

Agency Information Collection Activities; Submission to OMB for Review and Approval; Comment Request; NESHAP for Flexible Polyurethane Foam Production (Renewal), EPA ICR Number 1783.04, OMB Control Number 2060-0357

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before May 16, 2007.

ADDRESSES: Submit your comments, referencing docket ID number EPA-HQ-OECA-2006-0751, to (1) EPA online using www.regulations.gov (our preferred method), or by e-mail to docket.oeca@epa.gov, or by mail to: EPA Docket Center (EPA/DC), Environmental Protection Agency, Enforcement and Compliance Docket and Information Center, mail code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: María Malavé, Compliance Assessment and Media Programs Division (Mail Code 2223A), Office of Compliance, Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On October 6, 2006 (71 FR 58853), EPA sought comments on this ICR pursuant to 5 CFR 1320.8(d). EPA received no comments. Any additional comments on this ICR should be submitted to EPA and OMB within 30 days of this notice.

EPA has established a public docket for this ICR under docket ID number EPA-OECA-2006-0751, which is available for public viewing online at http://www.regulations.gov, in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, CBI, or other information whose public disclosure is restricted by statute. For further information about the electronic docket, go to www.regulations.gov.

Title: NESHAP for Flexible Polyurethane Foam Production (Renewal).

ICR Numbers: EPA ICR Number 1783.04, OMB Control Number 2060-0357.

ICR Status: This ICR is scheduled to expire on May 30, 2007. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The Maximum Achievable Control Technology (MACT) Standards for Flexible Polyurethane Foam Production, published at 40 CFR part 63, subpart III, were proposed on December 27, 1996, and promulgated on October 7, 1998. These standards apply to owners or operators of new and existing facilities that engage in the manufacture of flexible polyurethane foam products which emit hazardous air pollutants (HAPs). This includes facilities making slabstock flexible polyurethane foam (slabstock foam), rebond flexible polyurethane foam (rebond foam), and/or molded flexible polyurethane foam (molded foam).

In general, all MACT standards require initial notifications, performance tests, and periodic reports. Owners or operators of flexible polyurethane foam production facilities to which this rule is applicable must choose one of the compliance options described in the standard or reduce HAP emissions to below the compliance level. Specifically, the rule requirements for slabstock foam producers include an initial notification, notification of compliance status, semiannual reports and annual compliance certifications. In addition, respondents are required to submit a precompliance report that describes the HAP compliance procedures, and recordkeeping procedures. Those electing to comply with the slabstock foam emission limitation using recovery devices must measure and record emissions as specified in 40 CFR 63.1297 of the rule. The rule requirements for molded and rebond foam producers include a notification of compliance status report and an annual compliance certification. These notifications, reports, and records are essential in determining compliance, and are required of all sources subject to MACT.

Any owner or operator subject to the provisions of this part shall maintain a file of these measurements, and retain the file for at least five years following the date of such measurements, maintenance reports, and records. All reports are sent to the delegated state or local authority. In the event that there is no such delegated authority, the reports are sent directly to the United States Environmental Protection Agency (EPA) regional office.

Burden Statement: The annual public reporting and recordkeeping burden for this collection of information is estimated to average 43 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Flexible polyurethane foam production facilities.

Estimated Number of Respondents: 132.

Frequency of Response: Initially, semiannually and annually.

Estimated Total Annual Hour Burden: 9,047.

Estimated Total Annual Cost: $572,320, which includes $0 annual Startup costs, $0 Operating and Maintenance (O&M) costs, and $572,320 annualized Labor costs.

Changes in the Estimates: There is no change in the labor hours or cost in this ICR compared to the previous ICR. This is due to two considerations. First, the regulations have not changed over the past three years and are not anticipated to change over the next three years. Second, the growth rate for the industry is very low, negative or non-existent, so there is no significant change in the overall burden.

Dated: April 6, 2007.
Robert Gunter,
Acting Director, Collection Strategies Division.

[FR Doc. E7-7144 Filed 4-13-07; 8:45 am]

BILLING CODE 6560-50-P